DEPARTMENT OF HOMELAND SECURITY

Coast Guard

33 CFR Part 165

[Docket No. USCG-2008-0349]

RIN 1625-AA00

Safety Zones; Fireworks, Central and Northern Massachusetts

AGENCY: Coast Guard, DHS.

ACTION: Notice of proposed rulemaking.

SUMMARY: The Coast Guard proposes the temporary creation of safety zones for fireworks events being held on several waterways of Massachusetts this summer. These safety zones will last for the limited duration of the six fireworks events occurring near the water along the central and northern portions of Massachusetts' Atlantic Coast. The zones are necessary to protect spectators, participants, and vessels from the hazards associated with fireworks displays.

DATES: Comments and related material must reach the Coast Guard on or before July 7, 2008.

ADDRESSES: You may submit comments identified by Coast Guard docket number USCG-2008-0349 to the Docket Management Facility at the U.S. Department of Transportation. To avoid duplication, please use only one of the following methods:

(1) Online: http://www.regulations.gov.

(2) Mail: Docket Management Facility (M-30), U.S. Department of Transportation, West Building Ground Floor, Room W12-140, 1200 New Jersey Avenue, SE., Washington, DC 20590-0001.

(3) Hand delivery: Room W12-140 on the Ground Floor of the West Building, 1200 New Jersey Avenue, SE., Washington, DC 20590, between 9 a.m. and 5 p.m., Monday through Friday, except Federal holidays. The telephone number is 202-366-9329.

(4) Fax: 202-493-2251.

FOR FURTHER INFORMATION CONTACT: If you have questions on this proposed rule, call Chief Eldridge McFadden at 617-223-5160. If you have questions on viewing or submitting material to the docket, call Renee V. Wright, Program Manager, Docket Operations, telephone 202-366-9826.

SUPPLEMENTARY INFORMATION:

Public Participation and Request for Comments

We encourage you to participate in this rulemaking by submitting comments and related materials. All comments received will be posted, without change, to http://www.regulations.gov and will include any personal information you have provided. We have an agreement with the Department of Transportation (DOT) to use the Docket Management Facility. Please see DOT's “Privacy Act” paragraph below.

Submitting Comments

If you submit a comment, please include the docket number for this rulemaking (USCG-2008-0349), indicate the specific section of this document to which each comment applies, and give the reason for each comment. We recommend that you include your name and a mailing address, an e-mail address, or a phone number in the body of your document so that we can contact you if we have questions regarding your submission. You may submit your comments and material by electronic means, mail, fax, or delivery to the Docket Management Facility at the address under ADDRESSES; but please submit your comments and material by only one means. If you submit them by mail or delivery, submit them in an unbound format, no larger than 8½ by 11 inches, suitable for copying and electronic filing. If you submit them by mail and would like to know that they reached the Facility, please enclose a stamped, self-addressed postcard or envelope. We will consider all comments and material received during the comment period. We may change this proposed rule in view of them.

Viewing Comments and Documents

To view comments, as well as documents mentioned in this preamble as being available in the docket, go to http://www.regulations.gov at any time. Enter the docket number for this rulemaking (USCG-2008-0349) in the Search box, and click “Go >>.” You may also visit either the Docket Management Facility in Room W12-140 on the ground floor of the DOT West Building, 1200 New Jersey Avenue SE., Washington, DC 20590, between 9 a.m. and 5 p.m., Monday through Friday, except Federal holidays; or the U.S. Coast Guard Sector Boston, 427 Commercial Street, Boston, MA 02109 between 7 a.m. and 3 p.m., Monday through Friday, except Federal holidays.

Privacy Act

Anyone can search the electronic form of all comments received into any of our dockets by the name of the individual submitting the comment (or signing the comment, if submitted on behalf of an association, business, labor union, etc.). You may review the Department of Transportation's Privacy Act Statement in the Federal Register published on April 11, 2000 (65 FR 19477), or you may visit http://DocketsInfo.dot.gov.

Public Meeting

We do not now plan to hold a public meeting, but you may submit a request for one to the Docket Management Facility at the address under ADDRESSES explaining why one would be beneficial. If we determine that one would aid this rulemaking, we will hold one at a time and place announced by a later notice in the Federal Register.

Background and Purpose

This rule proposes to establish six individual safety zones on the waters of Nahant Bay, Manchester Bay, Marblehead Harbor, Beverly Harbor, Ipswich Bay, and Hingham Harbors during fireworks events on the nights and times listed herein.

The safety zones proposed by this rule would temporarily restrict movement near fireworks displays being held in Nahant Bay, Manchester Bay, Marblehead Harbor, Beverly Harbor, Ipswich Bay, and Hingham Harbor. The proposed zones will protect the maritime public from the dangers inherent in waterborne fireworks displays. Marine traffic may transit safely outside the safety zone during the effective period. The Captain of the Port does not anticipate any negative impact on vessel traffic due to implementation of these temporary safety zones. Public notifications will be made prior to the effective period of each proposed zone via safety marine information broadcasts and Local Notice to Mariners.

Discussion of Proposed Rule

The Coast Guard proposes to establish temporary safety zones on the waters of Nahant Bay, Manchester Bay, Marblehead Harbor, Beverly Harbor, Ipswich Bay, and Hingham Harbors in Massachusetts within a 200-yard radius of the barges from which fireworks will be shot during events in each of these waterways at the times listed in the proposed rule. Marine traffic would be able to transit safely outside of each safety zone in the majority of Nahant Bay, Manchester Bay, Marblehead Harbor, Beverly Harbor, Ipswich Bay, and Hingham Harbors not affected by the proposed rule during the event. This safety zone will control vessel traffic during the fireworks display to protect the safety of the maritime public.

Due to the limited time frame of the fireworks display, the Captain of the Port anticipates minimal negative impact on vessel traffic due to this event. Public notifications will be made prior to the effective period via local media, local notice to mariners and marine information broadcasts.

Regulatory Evaluation

We developed this proposed rule after considering numerous statutes and executive orders related to rulemaking. Below we summarize our analysis based on 13 of these statutes or executive orders.

Executive Order 12866

This proposed rule is not a “significant regulatory action” under section 3(f) of Executive Order 12866, Regulatory Planning and Review, and does not require an assessment of potential costs and benefits under section 6(a)(3) of that Order. The Office of Management and Budget has not reviewed it under that Order.

We expect the economic impact of this proposed rule to be so minimal that a full Regulatory Evaluation is unnecessary. Although this proposed rule would prevent traffic from transiting a portion of Nahant Bay, Manchester Bay, Marblehead Harbor, Beverly Harbor, Ipswich Bay, and Hingham Harbors during the effective period, the effects of this rule will not be significant for several reasons: vessels will be excluded from the proscribed areas for only two and one half hours, and advance notifications will be made to the local maritime community by marine information broadcasts and Local Notice to Mariners.

Small Entities

Under the Regulatory Flexibility Act (5 U.S.C. 601-612), we have considered whether this proposed rule would have a significant economic impact on a substantial number of small entities. The term “small entities” comprises small businesses, not-for-profit organizations that are independently owned and operated and are not dominant in their fields, and governmental jurisdictions with populations of less than 50,000.

The Coast Guard certifies under 5 U.S.C. 605(b) that this proposed rule would not have a significant economic impact on a substantial number of small entities. This proposed rule would affect the following entities, some of which may be small entities: The owners or operators of vessels intending to transit or anchor in the effected portion of Nahant Bay, Manchester Bay, Marblehead Harbor, Beverly Harbor, Ipswich Bay, and Hingham Harbor at the times listed in the proposed rule.

These safety zones would not have a significant economic impact on a substantial number of small entities for the following reasons: This proposed rule would be in effect for only two and one half hours, vessel traffic can safely pass around the safety zone during the effected period, and advance notification via safety marine informational broadcast and Local Notice to Mariners will be made before and during the effective period.

If you think that your business, organization, or governmental jurisdiction qualifies as a small entity and that this rule would have a significant economic impact on it, please submit a comment (see ADDRESSES) explaining why you think it qualifies and how and to what degree this rule would economically affect it.

Assistance for Small Entities

Under section 213(a) of the Small Business Regulatory Enforcement Fairness Act of 1996 (Pub. L. 104-121), we want to assist small entities in understanding this proposed rule so that they can better evaluate its effects on them and participate in the rulemaking. If the proposed rule would affect your small business, organization, or governmental jurisdiction and you have questions concerning its provisions or options for compliance, please contact Chief Eldridge McFadden at 617-223-5160. The Coast Guard will not retaliate against small entities that question or complain about this rule or any policy or action of the Coast Guard.

Collection of Information

This proposed rule would call for no new collection of information under the Paperwork Reduction Act of 1995 (44 U.S.C. 3501-3520).

Federalism

A rule has implications for federalism under Executive Order 13132, Federalism, if it has a substantial direct effect on State or local governments and would either preempt State law or impose a substantial direct cost of compliance on them. We have analyzed this proposed rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this proposed rule would not result in such an expenditure, we do discuss the effects of this rule elsewhere in this preamble.

Taking of Private Property

This proposed rule would not effect a taking of private property or otherwise have taking implications under Executive Order 12630, Governmental Actions and Interference with Constitutionally Protected Property Rights.

Civil Justice Reform

This proposed rule meets applicable standards in sections 3(a) and 3(b)(2) of Executive Order 12988, Civil Justice Reform, to minimize litigation, eliminate ambiguity, and reduce burden.

Protection of Children

We have analyzed this proposed rule under Executive Order 13045, Protection of Children from Environmental Health Risks and Safety Risks. This rule is not an economically significant rule and would not create an environmental risk to health or risk to safety that might disproportionately affect children.

Indian Tribal Governments

This proposed rule does not have tribal implications under Executive Order 13175, Consultation and Coordination with Indian Tribal Governments, because it would not have a substantial direct effect on one or more Indian tribes, on the relationship between the Federal Government and Indian tribes, or on the distribution of power and responsibilities between the Federal Government and Indian tribes. We invite your comments on how this proposed rule might impact tribal governments, even if that impact may not constitute a “tribal implication” under the Order.

Energy Effects

We have analyzed this proposed rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. The Administrator of the Office of Information and Regulatory Affairs has not designated it as a significant energy action. Therefore, it does not require a Statement of Energy Effects under Executive Order 13211.

Technical Standards

The National Technology Transfer and Advancement Act (NTTAA) (15 U.S.C. 272 note) directs agencies to use voluntary consensus standards in their regulatory activities unless the agency provides Congress, through the Office of Management and Budget, with an explanation of why using these standards would be inconsistent with applicable law or otherwise impractical. Voluntary consensus standards are technical standards (e.g., specifications of materials, performance, design, or operation; test methods; sampling procedures; and related management systems practices) that are developed or adopted by voluntary consensus standards bodies.

This proposed rule does not use technical standards. Therefore, we did not consider the use of voluntary consensus standards.

Environment

We have analyzed this proposed rule under Commandant Instruction M16475.lD which guides the Coast Guard in complying with the National Environmental Policy Act of 1969 (NEPA) (42 U.S.C. 4321-4370f), and have made a preliminary determination that this action is not likely to have a significant effect on the human environment. A preliminary “Environmental Analysis Check List” supporting this preliminary determination is available in the docket where indicated under ADDRESSES. We seek any comments or information that may lead to the discovery of a significant environmental impact from this proposed rule.

List of Subjects in 33 CFR Part 165

Harbors, Marine safety, Navigation (water), Reporting and recordkeeping requirements, Security measures, and Waterways.

For the reasons discussed in the preamble, the Coast Guard proposes to amend 33 CFR part 165 as follows:

PART 165—REGULATED NAVIGATION AREAS AND LIMITED ACCESS AREAS

1. The authority citation for part 165 continues to read as follows:

Authority: 33 U.S.C. 1226, 1231; 46 U.S.C. Chapter 701, 3306, 3703; 50 U.S.C. 191, 195; 33 CFR 1.05-1, 6.04-1, 6.04-6, and 160.5; Pub. L. 107-295, 116 Stat. 2064; Department of Homeland Security Delegation No. 0170.1.

2. Add § 165.T01-0349 to read as follows:

§ 165.T01-0349 Safety Zones; Northern and Central Massachusetts, Coastal fireworks displays.

(a) Location. The following waterborne fireworks events include safety zones as described herein:

(1) Beverly Homecoming Fireworks Event, Beverly, MA. (i) All waters of Beverly Harbor, from surface to bottom, within a 200 yard radius of the fireworks barge located at approximate position 42°32′37″ N, 070°52′09″ W. These coordinates are based upon NAD83 datum.

(ii) Effective Date. This rule will be effective from 9 p.m. through 11 p.m. on August 10, 2008.

(2) Independence Day Celebration Fireworks, Ipswich, MA. (i) All waters of Ipswich Bay, from surface to bottom, within a 200 yard radius of the beach at the approximate position 42°41′26″ N, 070°46′28″ W. These coordinates are based upon NAD83 datum.

(ii) Effective Date. This rule will be effective from 9 p.m. through 10 p.m. on July 4, 2008.

(3) City of Lynn 4th of July Celebration, Lynn, MA. (i) All waters of Nahant Bay, from surface to bottom, within a 200 yard radius of the fireworks barge located at 42°27′37″ N, 70°55′35″ W. These coordinates are based upon NAD83 datum.

(ii) Effective Date. This rule will be effective from 8:15 p.m. through 10 p.m. on July 3, 2008 with a rain date of July 5, 2008.

(4) Manchester Parks and Recreation 4th of July Fireworks, Manchester, MA. (i) All waters of Manchester Bay, from surface to bottom, within a 200 yard radius of the fireworks barge located at 427°35′2″ N, 70°45′31″ W. These coordinates are based upon NAD83 datum.

(ii) Effective Date. This rule will be effective from 8:30 p.m. through 10 p.m. on July 3, 2008 with a rain date of July 5, 2008.

(5) Marblehead 4th of July Celebration, Marblehead, MA. (i) All waters of Marblehead Harbor, from surface to bottom, within a 200 yard radius of the fireworks launch site located in Marblehead Harbor at approximate position 42°30′34″ N, 070°50′9″ W. These coordinates are based upon NAD83 datum.

(ii) Effective Date. This rule will be effective from 8:30 p.m. until 10 p.m. on July 4, 2008 with a rain date of July 5, 2008.

(6) Hingham 4th of July Fireworks, Hingham, MA. (i) All waters of Hingham Bay, from surface to bottom, within a 200 yard radius of the beach of Button Island at the approximate position 42°15′04″ N, 070°53′02″ W. These coordinates are based upon NAD83 datum.

(ii) Effective Date. This rule will be effective from 8:30 p.m. until 10 p.m. on July 5, 2008 with a rain date of July 6, 2008.

(b) Definition: As used in this section, designated representative means any Coast Guard commissioned, warrant, or petty officer, or any federal, state, or local law enforcement officer authorized to enforce this regulation on behalf of the Coast Guard Captain of the Port (COTP).

(c) Regulations. (1) In accordance with the general regulations in section 165.23 of this part, entry into or remaining in the safety zones described in paragraph (a) of this section is prohibited unless authorized by the Coast Guard Captain of the Port (COTP), Boston, or the COTP's designated representative.

(2) Persons desiring to transit within the safety zones established in this section may contact the Captain of the Port at telephone number 617-223-3008 or via on-scene patrol personnel on VHF channel 16 to seek permission to do so. If permission is granted, all persons and vessels must comply with the instructions of the Captain of the Port or his or her designated representative.

Dated: May 21, 2008.
Claudia C. Gelzer,
Commander, U.S. Coast Guard, Acting Captain of the Port Boston.

[FR Doc. E8-12479 Filed 6-3-08; 8:45 am]

BILLING CODE 4910-15-P